DEPARTMENT OF THE INTERIOR

Fish and Wildlife Service

Endangered and Threatened Species Permit Applications

AGENCY: Fish and Wildlife Service, Interior.

ACTION: Notice of receipt of applications.

SUMMARY: The following applicants have applied for permits to conduct certain activities with endangered species. This notice is provided pursuant to section 10(c) of the Endangered Species Act of 1973, as amended (16 U.S.C. 1531, et seq.).

DATES: Written data or comments should be submitted to the Regional Director, U.S. Fish and Wildlife Service, Ecological Services, 1 Federal Drive, Fort Snelling, Minnesota 55111-4056, and must be received on or before March 11, 2004.

FOR FURTHER INFORMATION CONTACT: Mr. Peter Fasbender, (612) 713-5343.

SUPPLEMENTARY INFORMATION: Permit Number: TE081995.

Applicant: James P. Dunn, Allendale, Michigan.

The applicant requests a permit to take (collect) the Karner blue butterfly (Lycaedes melissa samuelis) in Michigan. The scientific research is aimed at enhancement of survival of the species in the wild.

Permit Number: TE0840524-1.

Applicant: Lynn W. Robbins, Springfield, Missouri.

The applicant requests a permit to take (collect) the Indiana bat (Myotis sodalis) and gray bat (M. grisescens) throughout Iowa, Kansas, Ohio, and Nebraska. The scientific research is aimed at enhancement of survival of the species in the wild.

Permit Number: TE082167.

Applicant: Ozark Underground Laboratory, Protem, Missouri.

The applicant requests a permit to take (collect) the Illinois cave amphipod (Gammarus acherondytes) throughout Illinois. The scientific research is aimed at enhancement of survival of the species in the wild.

Permit Number: TE082499.

Applicant: Applied Science and Technology, Inc., Brighton, Michigan.

The applicant requests a permit to take (collect) Northern riffleshell mussel (Epioblasma torulosa rangiana) in Michigan. The scientific research is aimed at enhancement of survival of the species in the wild.

Permit Number: TE082500.

Applicant: Saint Louis Zoo, St. Louis, Missouri.

The applicant requests a permit to take (collect) the American burying beetle (Nicrophorus americanus) in Missouri. The scientific research is aimed at enhancement of survival of the species in the wild.

Dated: January 28, 2004.
Lynn M. Lewis,
Acting Assistant Regional Director, Ecological Services, Region 3, Fort Snelling, Minnesota.

[FR Doc. 04-2780 Filed 2-9-04; 8:45 am]

BILLING CODE 4310-55-P